FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Aetna Forwarding, Inc. (NVO & OFF), 3572 Lawson Blvd., Oceanside, NY 11572. Officer: Michael Siracusano, President/Secretary (Qualifying Individual). Application Type: Add NVO Service.

Jarvis International Freight, Inc. OFF), 1950 S. Starpoint Drive, Houston, TX 77032. Officer: Walter Krauklis, OTI Compliance Officer (Qualifying Individual), Thomas B. Crowley, Jr., Director/COB. Application Type: QI Change.

Leading Edge Logistics LLC (NVO & OFF), 90 S. Newtown Street Road, Suite 14, Newtown Square, PA 19073. Officer: Thomas D. Torcomian, CEO/Member (Qualifying Individual). Application Type: New NVO & OFF License.

Sofija Gjonbalaj dba Euroship (OFF), 3685 Shore Parkway, #3D, Brooklyn, NY 11235. Officer: Sofija Gjonbalaj, Sole Proprietor (Qualifying Individual). Application Type: New OFF License.

Solomon Emeke dba Desaiah Limited (OFF), 3696 Park Avenue, #300, Ellicott City, MD 21043. Officer: Solomon Emeke, Sole Proprietor (Qualifying Individual). Application Type: New OFF License.

TTS Worldwide, LLC (NVO & OFF), 1764 Quarter Street, West Babylon, NY 11704. Officers: Bernadette Proctor, Vice President (Qualifying Individual), Robert Cole, President. Application Type: QI Change.

Dated: February 3, 2011.
Karen V. Gregory,
Secretary.

[FR Doc. 2011-2847 Filed 2-8-11; 8:45 am]

BILLING CODE 6730-01-P